NATIONAL AERONAUTICS AND SPACE ADMINISTRATION

[Notice (20-051)]

Notice of Intent To Grant an Exclusive License

AGENCY: National Aeronautics and Space Administration.

ACTION: Notice of intent to grant exclusive invention license.

SUMMARY: NASA hereby gives notice of its intent to grant an exclusive invention license in the United States to practice the invention described and claimed in NASA Case Number MFS-33884-1, entitled “Ruggedizing a Commercial Camera for Space Flight Environments,” to Imperx, Inc., having its principal place of business in Boca Raton, Florida. NASA has not yet made a determination to grant the requested license and may deny the requested license even if no objections are submitted within the comment period.

DATES: The prospective exclusive license may be granted unless NASA receives written objections including evidence and argument, no later than June 18, 2020 that establish that the grant of the license would not be consistent with the requirements regarding the licensing of federally owned inventions as set forth in the Bayh-Dole Act and implementing regulations. Competing applications completed and received by NASA no later than June 18, 2020 will also be treated as objections to the grant of the contemplated exclusive license. Objections submitted in response to this notice will not be made available to the public for inspection and, to the extent permitted by law, will not be released under the Freedom of Information Act.

ADDRESSES: Objections relating to the prospective license may be submitted to James J. McGroary, Chief Patent Counsel/LS01, NASA Marshall Space Flight Center, Huntsville, AL 35812, (256) 544-0013. Email james.j.mcgroary@nasa.gov.

FOR FURTHER INFORMATION CONTACT: Kyle Costabile, Technology Transfer, ST22, NASA Marshall Space Flight Center, Huntsville, AL 35812, (256) 316-9556. Email kyle.p.costabile@nasa.gov.

SUPPLEMENTARY INFORMATION: This notice of intent to grant an exclusive invention license is issued in accordance with 35 U.S.C. 209(e) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Helen M. Galus,
Agency Counsel for Intellectual Property.

[FR Doc. 2020-11933 Filed 6-2-20; 8:45 am]

BILLING CODE 7510-13-P